DEPARTMENT OF DEFENSE

Department of the Army; Corps of Engineers

Intent To Prepare a Draft Environmental Impact Statement for Improvements to the Cedar Bayou Navigation Channel Near Baytown in Harris and Chambers Counties, TX

AGENCY: Department of the Army; U.S. Army Corps of Engineers, DoD.

ACTION: Notice of intent.

SUMMARY: The proposed study to improve the existing channel on Cedar Bayou was authorized by the Water Resources Development Act of 2000, Section 349. The proposed action to be addressed in the Draft Environmental Impact Statement (DEIS) is to evaluate several widening and deepening alternatives to improve navigation efficiency and safety of the Cedar Bayou Navigation Channel from the Houston Ship Channel in Galveston Bay up Cedar Bayou to the State Highway (Hwy) 146 crossing in Harris and Chambers Counties, Texas. The existing navigation channel has dimensions of 10 feet depth and 100 feet width from the Houston Ship Channel to approximately Mile 3.0 in the lower reach of Cedar Bayou. The study will focus on alternatives for improving the navigability of Cedar Bayou and examine the impacts of extending the channel another 8 miles upstream to Hwy 146. The project is located in the City of Baytown, which is located approximately 25 miles east of the City of Houston. The non-federal sponsor for the project is the Chambers County Cedar Bayou Navigation District (CCCBND).

DATES: A public meeting will be scheduled during the 45-day public review period for the Draft EIS in January 2005.

ADDRESSES: Written comments for the public review period and meeting should be forwarded to Dr. Terrell Roberts, Environmental Lead, U.S. Army Corps of Engineers, P.O. Box 1229, Galveston, TX 77553-1229; fax: (409) 766-3064.

FOR FURTHER INFORMATION CONTACT: Questions about the proposed action and DEIS can be answered by: Mr. Richard Tomlinson, Project Manager, Project Management Branch, Telephone: (409) 766-3917, E-mail: richard.d.tomlinson@usace.army.mil or Dr. Terrell Roberts, Environmental Lead, Environmental Section, Telephone: (409) 766-3035, E-mail: terrell.w.roberts@usace.army.mil.

SUPPLEMENTARY INFORMATION: 1. Background: The study process began in 1997 when the CCBND was created by the 75th Texas State Legislature to improve the navigability of Cedar Bayou. The feasibility study began in 1999 and will determine the most cost-effective alternative for improving the channel while protecting the local environment.

2. Alternative: Several construction alternatives and an “no-action” alternative will be evaluated for deepening and widening Cedar Bayou Channel. Alternatives will also be evaluated for the management of dredged material. The alternatives to be evaluated are: (1) Deepening and widening the channel to dimensions of 12 feet deep and 125 feet wide from the Houston Ship Channel (Mile -3) to SH 146 (Mile 11.4); (2) Deepening and widening the channel from Mile 3 to Mile 11.4 to match the currently maintained channel from the Houston Ship Channel to Mile 3 (10 ft deep and 100 ft wide); (3) Deepening the channel to 9 feet from Mile 3 to Mile 11.4; (4) Eliminating a series of tight bends known as the Devil's Elbow by dredging a new channel (Devil's Elbow Cutoff) to the north of these bends; (5) Creating 200-ft wide passing lanes in straight stretches of the channel; and (6) No Action. A “no-action” alternative will be evaluated and presented for comparison purposes in evaluating the various construction alternatives.

3. Scoping: The scoping process will involve Federal, State, and Local agencies, and other interested persons and organizations. Three public scoping meetings were held (March 22, 2000, December 11, 2000, and March 16, 2004) to explain the project and solicit information about public concerns and comments on the project. The information provided by the public, resource agencies, local industry, local government, and other interested parties was used to help develop planning objectives, identify significant resources and issues, evaluate impacts of various alternatives, and identify a plan that will be socially and environmentally acceptable. Another public meeting will be conducted during the public review period for the DEIS to update the public on the project, collect public comments on the DEIS, and discuss various issues associated with the channel improvements and placement of dredged material.

4. Coordination: Further coordination with environmental agencies will be conducted under the National Environmental Policy Act, the Fish and Wildlife Coordination Act, the Endangered Species Act, the Migratory Bird Treaty Act, the Clean Water Act, the Clean Air Act, the National Historic Preservation Act, the Magnuson-Stevens Fishery Conservation and Management Act (Essential Fish Habitat), and the Coastal Zone Management Act (Texas Coastal Management Program). Coordination with Federal and State regulatory agencies, the Local sponsors, and the U.S. Army Corps of Engineers has been initiated and will continue throughout the development of the DEIS.

5. DEIS Preparation. It is estimated that the DEIS will be available to the public for review and comment in December 2004.

Dated: August 10, 2004.
Carolyn Murphy,
Chief, Environmental Section.

[FR Doc. 04-18516 Filed 8-12-04; 8:45 am]

BILLING CODE 3710-52-M